FEDERAL COMMUNICATIONS COMMISSION.

47 CFR Part 73

[DA 05-662; MB Docket No. 05-104; RM-10837, RM-10838]

Radio Broadcasting Services; Black Rock, Cave City and Cherokee Village, AR, and Thayer, MO

AGENCY: Federal Communications Commission.

ACTION: Proposed rule.

SUMMARY: This document requests comments on two conflicting petitions for rulemaking. The first petition was jointly filed by KFCM, Inc. and Bragg Broadcasting, Inc., proposing the substitution of Channel 252C2 for Channel 252C3 at Cherokee Village, Arkansas, the reallotment of Channel 252C2 from Cherokee Village to Black Rock, Arkansas, and the modification of Station KFCM(FM)'s license accordingly; and the reallotment of Channel 222C2 from Thayer, Missouri to Cherokee Village, Arkansas, and the modification of Station KSAR(FM)'s license accordingly (RM-10837). The second petition was filed by Charles Crawford proposing the allotment of Channel 254A at Cave City, Arkansas, as the community's first local commercial FM transmission service. To accommodate the allotment, Crawford also proposes the reclassification of Station KURB(FM) at Little Rock, Arkansas from 253C to 253C0, pursuant to the Commission's reclassification procedures (RM-10838). Channel 252C2 can be reallotted to Black Rock in compliance with the Commission's minimum distance separation requirements with a site restriction of 5.0 kilometers (3.1 miles) southwest at joint petitioners' requested site. The coordinates for Channel 252C2 at Black Rock are 36-05-25 North Latitude and 91-08-55 West Longitude. See SUPPLEMENTARY INFORMATION, infra.

DATES: Comments must be filed on or before May 5, 2005, and reply comments on or before May 20, 2005. Any counterproposal filed in this proceeding need only protect Station KURB(FM), Little Rock, Arkansas, as a Class C0 allotment.

ADDRESSES: Federal Communications Commission, 445 Twelfth Street, SW., Washington, DC 20554. In addition to filing comments with the FCC, interested parties should serve the following: Jason Roberts, Esq., Irwin, Campbell & Tennenwald, P.C., 1730 Rhode Island Ave., NW., Suite 200, Washington, DC 20036-3101 (Counsel for KFCM, Inc. and Bragg Broadcasting, Inc.); and Charles Crawford, 4553 Bordeaux Avenue, Dallas, Texas 75205 (Petitioner).

FOR FURTHER INFORMATION CONTACT: Sharon P. McDonald, Media Bureau, (202) 418-2180.

SUPPLEMENTARY INFORMATION: This is a synopsis of the Commission's Notice of Proposed Rule Making, MB Docket No. 05-104, adopted March 9, 2005, and released March 14, 2005. The full text of this Commission decision is available for inspection and copying during normal business hours in the FCC's Reference Information Center at Portals II, CY-A257, 445 Twelfth Street, SW., Washington, DC. This document may also be purchased from the Commission's duplicating contractors, Best Copy and Printing, Inc., Portals II, 445 12th Street, SW., Room CY-B402, Washington, DC 20054, telephone 1-800-378-3160 or http://www.BCPIWEB.com. This document does not contain proposed information collection requirements subject to the Paperwork Reduction Act of 1995 (PRA), Public Law 104-13. In addition, therefore, it does not contain any proposed information collection burden “for small business concerns with fewer than 25 employees,” pursuant to the Small Business Paperwork Relief Act of 2002, Public Law 107-198, see 44 U.S.C. 3506(c)(4).

Additionally, Channel 222C2 can be reallotted to Cherokee Village at Station KSAR(FM)'s presently licensed site. The coordinates for Channel 222C2 at Cherokee Village are 36-21-58 North Latitude and 91-28-35 West Longitude. Moreover, Channel 254A can be allotted to Cave City with a site restriction of 1.0 kilometers (0.6 miles) southwest to avoid a short-spacing to the licensed site of Station WJZN(FM), Channel 255C1, Munford, Tennessee. The coordinates for Channel 254A at Cave City are 35-56-11 North Latitude and 91-33-27 West Longitude. Channel 253C0 can be reclassified at Little Rock at Station KURB(FM)'s presently licensed site. The coordinates for Channel 253C0 at Little Rock are 34-47-56 North Latitude and 92-29-44 West Longitude. Pursuant to Section 1.420(i) of the Commission's Rules, we will not accept competing expressions of interest for the use of Channel 252C2 at Black Rock, Arkansas, or the use of Channel 222C2 at Cherokee Village, Arkansas, or require the joint petitioners to demonstrate the existence of an equivalent class channel for use of other interested parties.

Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334 and 336.

§ 73.202 [Amended]

2. Section 73.202(b), the Table of FM Allotments under Arkansas, is amended by removing Cherokee Village, Channel 252A and adding Black Rock, Channel 253C2; by adding Cave City, Channel 254A; and by removing Channel 253C and adding Channel 253C0 at Little Rock.

3. Section 73.202(b), the Table of FM Allotments under Missouri, is amended by removing Channel 222C2 at Thayer.

Federal Communications Commission.
John A. Karousos,
Assistant Chief, Audio Division, Media Bureau.

[FR Doc. 05-5855 Filed 3-23-05; 8:45 am]

BILLING CODE 6712-01-P